DEPARTMENT OF ENERGY

Federal Energy Regulatory Commission

[Docket No. RP05-145-000]

Florida Gas Transmission Company; Notice of Filing of Annual Report

January 7, 2005.

Take notice that on January 3, 2005, Florida Gas Transmission Company (FGT) tendered for filing pursuant to Section 19.1 of the General Terms and Conditions of its FERC Gas Tariff, Third Revised Volume No. 1, schedules detailing certain information related to its cash-out mechanism, fuel resolution mechanism and balancing tools charges for the accounting months October 2003 through September 2004. FGT states that no tariff changes are proposed.

FGT states that it has recorded excess costs of $309,204 during the current settlement period, which when combined with the $2,399,985 net deficiency carried forward from the preceding Settlement Period and interest income of $187,722, result in a cumulative net cost balance of $2,521,467 as of September 30, 2004.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. eastern time on January 18, 2005.

Magalie R. Salas,
Secretary.

[FR Doc. E5-142 Filed 1-13-05; 8:45 am]

BILLING CODE 6717-01-P